DEPARTMENT OF TRANSPORTATION

Federal Railroad Administration

[Docket No. FRA-2022-0002-N-4]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before May 31, 2022.

ADDRESSES: Written comments and recommendations for the proposed ICR should be submitted on regulations.gov to the docket, Docket No. FRA-2022-0002. All comments received will be posted without change to the docket, including any personal information provided. Please refer to the assigned OMB control number in any correspondence submitted. FRA will summarize comments received in response to this notice in a subsequent notice and include them in its information collection submission to OMB for approval.

FOR FURTHER INFORMATION CONTACT: Ms. Hodan Wells, Information Collection Clearance Officer, at email: hodan.wells@dot.gov or telephone: (202) 493-0440.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summary below describes the ICR that FRA will submit for OMB clearance as the PRA requires:

Title: Inquiry into Blocked Highway-Rail Grade Crossings throughout the United States.

OMB Control Number: 2130-0630.

Abstract: In 2020, FRA created a dedicated website allowing the public and law enforcement personnel to use web-based forms to voluntarily submit information about blocked crossings to FRA.¹ Under the currently approved information collection request, users provide information regarding the location, date, time, duration, and immediate impacts of highway-rail grade crossings blocked by slow-moving or stationary trains. FRA uses the data collected to gain a more complete picture of where, when, for how long, and what impacts result from reported blocked crossing incidents.² Additionally, FRA uses the information to respond to congressional inquiries so that congressional staff can respond to their constituents. Furthermore, FRA uses the information gathered to facilitate meetings, outreach, and other solutions for stakeholders to reduce or eliminate blocked crossing concerns.

¹ Access to the web-based form used by the public is unrestricted. Access to the web-based form used by law enforcement personnel is restricted to law enforcement personnel with usernames and passwords managed by FRA.

² The data collection is not designed to provide a representative sample or create generalizable statistics. Additionally, the data gathered from this collection is not suitable for use in budgetary requests or regulatory proposals.

Upon accessing these web-based forms, users are notified there are no Federal laws or regulations that specifically address the length of time a train may occupy a highway-rail grade crossing. Users are also notified that information submitted will not be forwarded to a railroad, State, or local agency, and will only being used for data collection purposes to determine the locations, times, and impacts of blocked crossings.

On November 15, 2021, the Infrastructure Investment and Jobs Act of 2021 (Pub. L. 117-58) “Bipartisan Infrastructure Law (BIL)” was enacted. In addition to mandating that FRA establish an online portal and corresponding database to receive information regarding blocked highway-rail grade crossings, section 22404 of BIL “encourages each complainant to report the blocked crossing to the relevant railroad.” Therefore, in preparation for this new statutory mandate, FRA proposes to modify the existing web-based forms by adding one question, “have you contacted the railroad?” Otherwise, the rest of the questions on the web-based forms will remain the same.³

³ The average time per response will be remain at 3 minutes per response since the modification made under BIL requirement is de minimis.

Currently, there are no Federal laws or regulations that specifically address how long a train may occupy a crossing, whether stationary or operating at slow speeds. Some States and local municipalities have laws that vary in how long trains are permitted to occupy crossings.

There are potential safety concerns with crossings that are blocked by trains. For instance, pedestrians may crawl under or through stationary trains. Also, emergency response vehicles and first responders may be delayed when responding to an incident or transporting persons to a hospital. In addition, drivers may take more risks, such as driving around lowered gates at a crossing or attempting to beat a train through a crossing without gates, in order to avoid a lengthy delay if they are aware that trains routinely block a crossing for extended periods of time. There are also potential economic impacts that affect businesses, such as stores or restaurants not being accessible to a customer base for an extended period of time. Finally, highway-rail grade crossings that are blocked for extended periods of time may create societal nuisances, such as roadway congestion, delayed mail service and deliveries, disrupted school and work arrival and dismissal, or missed appointments.

Type of Request: Revision of a currently approved collection.

Affected Public: Public individuals and law enforcement personnel.

Form(s): FRA F 6180.175.

Respondent Universe: Public individuals and law enforcement personnel.

Frequency of Submission: On occasion.

Reporting Burden:

Form ⁴ | Total annual responses | Average time per response (minutes) | Total annual burden hours | Total cost equivalent
| (A) | (B) | (C) = A * B | (D) = C * wage rate ⁵
General Public via the unrestricted form on the FRA website | 15,500 | 3 | 775 | $20,925
Law Enforcement Personnel via the limited access form on the FRA website | 350 | 3 | 18 | 486
Total | 15,850 | N/A | 793 | 21,411

Total Estimated Annual Responses: 15,850.

⁴ The current inventory exhibits a total burden of 250 hours while the total burden of this notice is 793 hours. The increase in burden hours is due to an anticipated increase in the number of responses.

⁵ FRA used an hourly rate of $27 per hour for the value of the public's time. FRA obtained this data from the Department of Labor, Bureau of Labor Statistics.

Total Estimated Annual Burden: 793 hours.

Total Estimated Annual Burden Hour Dollar Cost Equivalent: $21,411.

Under 44 U.S.C. 3507(a) and 5 CFR 1320.5(b) and 1320.8(b)(3)(vi), FRA informs all interested parties that a respondent is not required to respond to, conduct, or sponsor a collection of information that does not display a currently valid OMB control number.

Authority: 44 U.S.C. 3501-3520.

Brett A. Jortland,
Deputy Chief Counsel.

[FR Doc. 2022-06944 Filed 3-31-22; 8:45 am]

BILLING CODE 4910-06-P